DEPARTMENT OF AGRICULTURE

Food and Nutrition Service

Agency Information Collection Activities: Proposed Collection; Comment Request—FNS-380, Worksheet for Food Stamp Program Quality Control Reviews

AGENCY: Food and Nutrition Service, USDA.

ACTION: Notice.

SUMMARY: As required by the Paperwork Reduction Act of 1995, this notice invites the general public and other public agencies to comment on the proposed information collection of FNS-380, Worksheet for Food Stamp Program Quality Control Reviews.

DATES: Written comments must be submitted on or before August 12, 2003.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology. Comments may be sent to: Daniel Wilusz, Chief, Quality Control Branch, Program Accountability Division, Food and Nutrition Service, U.S. Department of Agriculture, 3101 Park Center Drive, Alexandria, VA 22302.

All responses to this notice will be included in the request for OMB's approval. All comments will also become a matter of public record.

FOR FURTHER INFORMATION CONTACT: Requests for additional information or copies of the information collection form and instruction should be directed to Daniel Wilusz, (703) 305-2460.

SUPPLEMENTARY INFORMATION: Title: Worksheet for Food Stamp Program Quality Control Reviews.

OMB Number: 0584-0074.

Form Number: FNS-380.

Expiration Date: November 30, 2003.

Type of Request: Revision of an existing information collection.

Abstract: Form FNS-380 is a worksheet used in the Food Stamp Program to determine eligibility and benefits for households selected for review in the quality control sample of active cases. We estimate the reporting burden for this collection of information averages 8.9764 hours per each States' response. This includes the time for analyzing the household case record; planning and carrying out the field investigation; gathering, comparing, analyzing and evaluating the review data and forwarding selected cases to the Food and Nutrition Service for Federal validation. In addition to the State agency's burden, we also estimate the average burden on each household to be 0.50 hours for each of the estimated 54,703 households being interviewed. This includes a face-to-face interview with the Quality Control Reviewer to verify the identity and existence of the household and explore the household circumstances affecting the eligibility and benefit level. We estimate that the total reporting burden associated with this information collection for both State agencies and the households is 518,388 hours. The total recordkeeping burden for the State agency is 0.0236 hours per record.

We previously cleared the reporting and recordkeeping burden for this form under Office of Management and Budget (OMB) clearance number 0584-0074. OMB approved the burden through November 30, 2003. Based on the most recent table of active case sample sizes and completion rates (FY 2001), we estimate 54,703 FNS-380 worksheets and interviews will now be completed annually. This is an increase of 40 responses from the estimate made to substantiate the current collection. This estimate will also cause a corresponding increase in the reporting and recordkeeping burden. The increase in responses is a result of an augmented participation rate and is based on a statistical formula. We are requesting a three-year approval from OMB for this information collection.

Affected Public: Individuals or households; State or local governments.

Estimated Number of Respondents: 53 State agencies and 54,703 households.

Estimated Total Number of Responses Per Year: 54,703 responses.

Estimated Time per Response: 8.9764 hours per State agency and 0.50 hours per household.

Estimated Total Annual Reporting Burden: 518,388 hours.

Estimated Number of Records: 54,703.

Estimated Time per Recordkeeping: .0236 hours.

Estimated Total Annual Recordkeeping Burden: 1,291 hours.

Estimated Total Annual Reporting and Recordkeeping Burden: 519,679 hours.

Dated: June 2, 2003.
Roberto Salazar,
Administrator, Food and Nutrition Service.

[FR Doc. 03-14956 Filed 6-12-03; 8:45 am]

BILLING CODE 3410-30-P